DEPARTMENT OF THE TREASURY

Bureau of Engraving and Printing

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning survey and other research designed to establish benchmark measures of awareness, confidence and behavior, test messages and potential program taglines and materials relating to the Bureau's redesigned currency public education program.

DATES: Written comments should be received on or before July 23, 2007 to be assured consideration.

ADDRESSES: Direct all written comments to Department of the Treasury, Bureau of Engraving and Printing, Ellen Gano, 14th & C Streets, SW., Washington, DC 20228, (202) 874-1211.

FOR FURTHER INFORMATION CONTACT: Requests for additional information or copies of the form(s) and instructions should be directed to Department of the Treasury, Bureau of Engraving and Printing, Pamela V. Grayson, 14th & C Streets, SW., Washington, DC 20228, (202) 874-2212.

SUPPLEMENTARY INFORMATION: Title: Redesigned Currency Information Collection.

Abstract: The Bureau of Engraving and Printing requests approval to conduct a series of information collection activities with the public in support of its public education program regarding the introduction of redesigned currency. These collections will include: A survey used to establish baseline measures of awareness of currency changes, confidence in the currency and authentication behavior, and subsequent surveys to evaluate changes in these measures; a survey to evaluate potential messages designed to encourage the public to examine and learn currency security features; a survey to evaluate potential taglines that will help call attention to new security features while maintaining confidence in U.S. currency; and, a survey to test draft materials to be developed in support of the program. The collection will also include in-depth interviews with bank tellers and others who frequently conduct cash transactions as part of their job, to identify special needs and tools for their use.

Current Actions: This is a new collection.

Type of Review: Regular.

Affected Public: The affected public includes all adult (18 or older) members of the U.S. population.

Estimated Number of Respondents: 5,850.

Estimated Total Annual Burden Hours: 1,990.

Request for Comments: Comments submitted in response to this notice will be summarized and/or included in the request for OMB approval. All comments will become a matter of public record. Written comments should address the accuracy of the burden estimates and ways to minimize burden including the use of automated collection techniques or the use of other forms of information technology, as well as other relevant aspects of the information collection request.

Dated: May 23, 2007.
Pamela V. Grayson,
Management Analyst.

[FR Doc. E7-10133 Filed 5-24-07; 8:45 am]

BILLING CODE 4840-01-P